DEPARTMENT OF STATE

[Public Notice #3356]

FY 2000 Funding Under the Research and Training for Eastern Europe and the Independent States of the Former Soviet Union Act of 1983

On April 21, 2000, Secretary of State Madeleine Albright approved the recommendations of the Advisory Committee for the Study of Eastern Europe and the Independent States of the Former Soviet Union. The Title VIII program, administered by the Department of State, seeks to build expertise among Americans on Russia, Eurasia, and Central and East Europe through support for advanced research, language and graduate training, and other activities both in the US and in the region. FY 2000 grant recipients are listed below.

1. American Council of Learned Societies

Grant: $420,000 (EE).

Purpose: To support dissertation fellowships, institutional grants for language training in the U.S. covering the basic languages of Central and East Europe, the Junior Scholars' Training Seminar, and post-doctoral research fellowships.

Contact: Jason Parker, Executive Associate, American Council of Learned Societies, 228 East 45th Street, New York, NY 10017-3398, (212) 697-1505 (ext. 134/135), Fax (212) 949-8058, e-mail: jason@acls.org.

2. American Councils for International Education

Grant: $420,000 ($355,000-NIS, $65,000-EE/B).

Purpose: To support programs for Advanced Russian Language and Area Studies, Languages of the NIS, Central and East European languages, Individualized Language Training and Research, Field Research Fellowships with the National Council for Eurasian and East European Research, and Policy Forums.

Contact: Graham Hettlinger, American Councils for International Education, 1776 Massachusetts Avenue, NW, Suite 700, Washington, DC 20036, (202) 833-7522, Fax (202) 833-7523, e-mail: Hettlinger@actr.org.

3. The William Davidson Institute of the University of Michigan Business School

Grant: $170,000 ($70,000-NIS; $100,000-EE).

Purpose: To support post-doctoral research fellowships on public policy affecting the development of markets in the Balkans and in Central Asia and the Caucasus.

Contact: Sharon Nakpairat, Administrative Director, The William Davidson Institute, University of Michigan Business School, 724 East University Avenue, Ann Arbor, MI 48109-1234, (734) 936-0041, Fax (734) 763-5850.

4. University of Illinois at Urbana-Champaign

Grant: $125,000 ($95,000-NIS; $30,000-EE/B).

Purpose: To support the Summer Research Laboratory, which provides dormitory housing and access to the University's library for advanced research, and the Slavic Reference Service, which locates materials unavailable through regular interlibrary loan.

Contact: Dianne Merridith, Program Administrator, Russian and East European Center, University of Illinois at Urbana-Champaign, 104 International Studies Building, 910 South Fifth Street, Champaign, IL 61820, (217) 333-1244, Fax (217) 333-1582, e-mail: reec@uiuc.edu.

5. Institute of International Education

Grant: $100,000 ($50,000-NIS; $50,000-EE).

Purpose: To support Professional Development Fellowships for young professionals in fields related to public service and civil policy in the Balkans and in Central Asia and the Caucasus.

Contact: Andrew Small, Program Manager, US Student Programs, Institute of International Education, 809 United Nations Plaza, New York, NY 10017-3580, (212) 984-5326, Fax (212) 984-5325, e-mail: asmall@iie.org.

6. International Research and Exchanges Board

Grant: $565,000 ($315,000-NIS; $250,000-EE/B).

Purpose: To support its programs for Individual Advanced Research Opportunities, Short-term Travel Grants, Black Sea and Caspian Regional Policy Symposia, Dissemination, and Policy Forums.

Contact: Joyce Warner, Director, Academic Exchanges and Research Division, International Research and Exchanges Board, 1616 H Street, NW, Washington, DC 20006, (202) 628-8188, Fax (202) 628-8189, e-mail: jwarner@irex.org.

7. National Council for Eurasian and East European Research

Grant: $1,200,000 ($900,000-NIS; $300,000-EE/B).

Purpose: To support the Research Contract and Fellowship Grant Programs for postdoctoral research, Policy Research Fellowships in the NIS and Central and East Europe, and the Ed. A. Hewett Fellowship Program to allow a scholar to work on a research project for a year while serving in a USG agency.

Contact: Robert Huber, President, National Council for Eurasian and East European Research, 910 17th Street, NW, Suite 300, Washington, DC 20006, (202) 822-6950, Fax (202) 822-6955, e-mail: nceeerdc@aol.com.

8. Social Science Research Council

Grant: $775,000 ($745,000-NIS, $30,000-EE/B).

Purpose: To support dissertation fellowships, advanced graduate fellowships, US-based institutional training in the languages of the NIS, the dissertation workshop on understudied regions, and postdoctoral fellowships.

Contact: Seteney Shami, Program Director, Social Science Research Council, 810 7th Avenue, 31st Floor, New York, NY 10019, (212) 377-2700, Fax (212) 377-2727, e-mail: shami@ssrc.org.

9. The Woodrow Wilson Center for International Scholars

Grant: $720,000 ($470,000-NIS; $250,000-EE/B).

Purpose: To support the Research and Short-term Scholar Programs, internships, meetings, outreach and publications of the Kennan Institute for Advanced Russian Studies and the East European Studies of the European Program, including the Kennan's Workshop on the Role of Women in Post-Communist Transitions and the East European Program's Junior Scholars’ Training Seminar.

Contact: Nancy Popson, Deputy Director, Kennan Institute, (202) 691-4100, Fax (202) 691-4247

or

Martin Sletzinger, Director, East European Studies, The Wilson Center, 1300 Pennsylvania Avenue, NW, Washington, DC 20004-3027, (202) 691-4263, Fax (202) 691-4247.

Dated: June 27, 2000.
W. Kendall Myers,
Acting Executive Director, Advisory Committee for Study of Eastern Europe and the Independent States of the Former Soviet Union.

[FR Doc. 00-16904 Filed 7-4-00; 8:45 am]

BILLING CODE 4710-32-P